DEPARTMENT OF THE INTERIOR

Bureau of Land Management

[BLM_OR_FRN_MO4500181460]

Notice of Availability of the Bridge Creek Area Allotment Management Plans Draft Environmental Impact Statement in the Andrews Field Office, Burns District, Oregon

AGENCY: Bureau of Land Management, Interior.

ACTION: Notice of availability.

SUMMARY: In compliance with the National Environmental Policy Act of 1969, as amended, and the Federal Land Policy and Management Act of 1976, as amended (FLPMA), the Bureau of Land Management (BLM) announces the availability of the Draft Environmental Impact Statement (EIS) for the Bridge Creek Area Allotment Management Plans.

DATES: To afford the BLM the opportunity to consider comments in the Draft EIS, please ensure that the BLM receives your comments within 45 days following the date the Environmental Protection Agency (EPA) publishes its Notice of Availability (NOA) of the Draft EIS in the Federal Register. The EPA usually publishes its NOAs on Fridays.

ADDRESSES: Written comments related to the Bridge Creek Area Allotment Management Plans Draft EIS may be submitted by any of the following methods:

• Website: https://eplanning.blm.gov/eplanning-ui/project/2013546/510.

• Email: BLM_OR_BU_BCA_AMP@blm.gov.

• Fax: (541) 573-4411.

• Mail: Bureau of Land Management, Burns District, ATTN: Don Rotell BCA Draft EIS, 28910 Hwy. 20 West, Hines, OR 97738.

Documents pertinent to this proposal may be examined at the Burns District Office, 28910 Hwy. 20 West, Hines, OR 97738, or online at https://eplanning.blm.gov/eplanning-ui/project/2013546/510.

FOR FURTHER INFORMATION CONTACT: District Manager, Donald Rotell, BLM Burns District Office, 28910 Highway 20 West, Hines, Oregon 97738; telephone: (541) 573-4422; email: BLM_OR_BU_BCA_AMP@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The Bridge Creek Area consists of approximately 39,062 acres in southeastern Oregon within the Hammond, Mud Creek, Hardie Summer, and Hammond Fenced Federal Range (FFR) Allotments, located approximately 60 miles south of Burns, Oregon, near the town of Frenchglen. The allotments are located within the Andrews Field Office and partially within the Steens Mountain Cooperative Management and Protection Area.

There is currently no grazing preference or grazing authorization associated with the four allotments in the project area. Through the alternatives in the EIS, the BLM will consider whether to issue 10-year grazing permits and approve 4 Allotment Management Plans that outline seasonal grazing systems, grazing utilization thresholds, monitoring, and range developments. Following issuance of the Final EIS, BLM would sign a Record of Decision (ROD). If the ROD selects livestock grazing as an action, the BLM will issue a separate decision allocating forage and grazing permits by following the grazing regulations applying to conflicting applications at 43 CFR 4130.1-2. The BLM received multiple applications for grazing permits following a Notice of Available Forage issued in 2020.

In 2023, the BLM assessed these four allotments for conformance to Standards and Guidelines (S&Gs) for achieving rangeland health as part of the 2023 Bridge Creek Area Land Health Assessment and determined that not all applicable standards within these four allotments were achieved. Causal factors included shrub cover reduction through fire and historic sagebrush removal, crested wheatgrass seeding and maintenance, annual grass increases following fire, juniper encroachment, drought, upstream impacts, channel incisions caused by grazing practices prior to 1984, and current unauthorized grazing.

The purpose of the action is to: (1) respond to external requests to consider issuing 10-year term livestock grazing permit(s) for the Hammond, Mud Creek, Hardie Summer, and Hammond FFR allotments; (2) consider assigning grazing preference to one or more base properties; (3) respond to requests to adjust pasture and allotment boundaries and animal unit months (AUMs); (4) respond to an external request to increase active use AUMs in the Hammond Allotment to manage its higher crested wheatgrass production; (5) implement allotment management plans for the Hammond, Hardie Summer, Mud Creek, and Hammond FFR allotments; and (6) reduce standing fine fuel biomass through biological thinning of forage in the Hammond, Hardie Summer, and Mud Creek allotments.

The BLM need for the action is to: (1) respond to external requests for issuance of grazing permit(s) and modification of grazing management related activities; (2) ensure that grazing management practices occurring on public land meet the Standards of Rangeland Health and conform with the Guidelines for Livestock Grazing Management; (3) ensure any authorized livestock grazing is consistent with applicable Resource Management Plans; (4) ensure proper active use of AUM levels, season of use, and livestock management to maintain or improve the land health, vigor, and ecological processes within the allotments; and (5) reduce fine fuel biomass accumulation to maintain plant vigor.

The BLM is analyzing five alternatives. Across all of the action alternatives, a common objective is to strive to meet or make significant progress toward meeting Oregon/Washington Standards for Rangeland Health & Guidelines for Livestock Grazing (BLM 1997), to comply with 2015 Oregon Greater Sage-Grouse (GRSG) Resource Management Plan Amendment (Greater Sage-Grouse ARMPA; BLM 2015b) objectives, and comply with the statutory and regulatory requirements of FLPMA and the Taylor Grazing Act of 1934.

Alternative 1 would include issuing grazing permit(s) for the allotments with terms and conditions identical to the previously issued permit, which expired in 2014. This alternative would not include any range developments.

Alternative 2 is the Agency Developed Alternative and would include issuance of an allotment management plan and grazing permit(s) with site specific terms and conditions, range developments, and revised allotment and/or pasture boundaries to provide periodic growing season rest, flexibility, and adaptive management to all allotments. This alternative would increase permitted AUMs within the Hammond Allotment and authorize limited non-renewable grazing, construction of 6.5 miles of new fences, and removal of 8.7 miles of fencing.

Alternative 3 would include issuance of grazing permit(s) with site specific terms and conditions, range developments, changes to allotment and pasture boundaries, a modified season of use for each allotment to ensure periodic growing season rest in all pastures and authorize limited non-renewable grazing. This alternative would increase AUMs permitted within all allotments, and authorize construction of 1 new corral, up to 2.7 miles of water pipelines, 3 troughs, 7.6 miles of new fences, and removal of 5.6 miles of fencing.

Alternative 4 would include issuing grazing permit(s) with reduced AUMs, a restricted season of use, and would not include any boundary adjustments or constructing or removing any range developments. Alternative 5 is the No Action Alternative; no livestock grazing permits would be issued, and no new developments would be authorized or constructed. Should the BLM determine to hold public meetings, the specific date(s) and location(s) of any meeting will be announced in advance through local media press releases and the project's ePlanning page shown in the ADDRESSES section of this notice.

Comments on the draft EIS must be submitted in accordance with the DATES section of this notice to the contacts listed in the ADDRESSES section of this notice. To assist the BLM in identifying issues and concerns related to this project, comments should be as specific as possible.

Public Disclosure of Comments: Before including your address, phone number, email address, or other personal identifying information in your comment, you should be aware that your entire comment—including your personal identifying information—may be made publicly available at any time. While you can ask us in your comment to withhold your personal identifying information from public review, we cannot guarantee that we will be able to do so.

(Authority: 40 CFR 1506.6, 40 CFR 1506.10) (2023).)

Donald Rotell,
District Manager, Burns District.

[FR Doc. 2024-30542 Filed 1-8-25; 8:45 am]

BILLING CODE 4331-24-P